NATIONAL SCIENCE FOUNDATION

Agency Information Collection Activities: Comment Request

AGENCY: National Center for Science and Engineering Statistics, National Science Foundation.

ACTION: Notice.

SUMMARY: The National Center for Science and Engineering Statistics (NCSES) within the National Science Foundation (NSF) is announcing plans to request renewal of the NCSES Generic Clearance for Improvement Projects (3145-0174). In accordance with the requirements of the Paperwork Reduction Act of 1995, we are providing opportunity for public comment on this action. After obtaining and considering public comment, NCSES will prepare the submission requesting that OMB approve clearance of this collection for three years.

DATES: Written comments on this notice must be received by March 29, 2022 to be assured of consideration. Comments received after that date will be considered to the extent practicable. Send comments to the address below.

FOR FURTHER INFORMATION CONTACT: Suzanne H. Plimpton, Reports Clearance Officer, National Science Foundation, 2415 Eisenhower Avenue, Suite W18253, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Title of Collection: NCSES Generic Clearance for Improvement Projects.

OMB Control Number: 3145-0174.

Expiration Date of Current Approval: July 31, 2022.

Type of Request: Intent to seek approval to extend an information collection for three years.

Abstract: Established within the National Science Foundation by the America COMPETES Reauthorization Act of 2010 § 505, codified in the National Science Foundation Act of 1950, as amended, the National Center for Science and Engineering Statistics (NCSES)—one of 13 principal federal statistical agencies—serves as a central Federal clearinghouse for the collection, interpretation, analysis, and dissemination of objective data on science, engineering, technology, research and development for use by practitioners, researchers, policymakers, and the public. NCSES conducts about a dozen nationally representative surveys to obtain the data for these purposes. The Generic Clearance will be used to ensure that the highest quality data are obtained from these surveys. State of the art methodology will be used to develop, evaluate, and test questionnaires and survey concepts as well as to improve survey and statistical methodology. This may include field or pilot tests of questions for future large-scale surveys, as needed. The Generic Clearance will also be used to test and evaluate data dissemination tools and methods, in an effort to improve access for data users.

Use of the Information: The purpose of these studies is to use the latest and most appropriate methodology to improve NCSES surveys, evaluate new data collection efforts, and evaluate data dissemination tools and mechanisms. Methodological findings may be presented externally in technical papers at conferences, published in the proceedings of conferences, or in journals. Improved NCSES surveys, data collections, and data dissemination will help policymakers in decisions on research and development funding, graduate education, and the scientific and engineering workforce, as well as contributing to reduced survey costs.

Expected Respondents: The respondents will be from industry, academia, nonprofit organizations, members of the public, and State, local, and Federal governments. Respondents will be either individuals or institutions, depending on the topic under investigation. Qualitative procedures will generally be conducted in person, online (using Zoom, Microsoft Teams, or other conferencing tools), or over the phone. Quantitative procedures may be conducted using mail, Web, email, smartphone app, or telephone modes, depending on the topic under investigation. Up to 28,515 respondents may be contacted across all projects. No respondent will be contacted more than twice in one year under this generic clearance. Every effort will be made to use technology to limit the burden on respondents from small entities.

Both qualitative and quantitative methods will be used to improve NCSES's current data collection instruments and processes and to reduce respondent burden, as well as to develop new surveys and new or improved data dissemination tools. Qualitative and quantitative methods that may be used include, but are not limited to, the following: Behavior coding, split panel tests, experimental pilot studies, field tests, focus groups, respondent debriefings, exploratory interviews, cognitive interviews, and usability tests. Cognitive interviews and usability tests may include the use of scenarios, paraphrasing, card sorts, vignette classifications, rating tasks, or participatory design methods (e.g., collaborative digital whiteboards). NCSES may conduct these studies using interviewer-administered or self-administered methods, including online convenience samples.

Estimate of Burden: NCSES estimates that a total reporting and recordkeeping burden of 11,500 hours will result from activities to improve its surveys. The calculation is shown in Table 1.

Table 1—Potential Surveys for Improvement Projects, With the Number of Respondents and Burden Hours
Survey or information collection | 2022-25 number of respondents | 2022-25 number of hours
Survey of Doctorate Recipients | 5,000 | 1,100
Survey of Earned Doctorates | 2,500 | 945
National Training, Education, and Workforce Survey | 660 | 400
Other surveys of the science and engineering workforce | 1,250 | 550
Higher Education Research & Development Survey | 450 | 350
Federally Funded Research & Development Centers (FFRDC) Survey | 80 | 100
State Government Research & Development Survey | 150 | 225
Survey of Nonprofit Research Activities | 200 | 200
Business Enterprise Research & Development Survey | 50 | 150
Survey of Scientific & Engineering Facilities | 300 | 200
Public Perceptions of Science | 1,100 | 180
Data dissemination tools and mechanisms | 3,100 | 800
Projects conducted under the NCSES Broad Agency Announcement (BAA) | 3,675 | 3,300
Other surveys and projects not specified | 10,000 | 3,000
Total | 28,515 | 11,500

Comments: Comments are invited on (a) whether the proposed collection of information is necessary for the proper performance of the functions of NCSES, including whether the information shall have practical utility; (b) the accuracy of NCSES's estimate of the burden of the proposed collection of information; (c) ways to enhance the quality, use, and clarity of the information on respondents, including through the use of automated collection techniques or other forms of information technology; and (d) ways to minimize the burden of the collection of information on those who are to respond, including through the use of appropriate automated, electronic, mechanical, or other technological collection techniques or other forms of information technology.

Dated: January 25, 2022.
Suzanne H. Plimpton,
Reports Clearance Officer, National Science Foundation.

[FR Doc. 2022-01791 Filed 1-27-22; 8:45 am]

BILLING CODE 7555-01-P